INTERNATIONAL TRADE COMMISSION

[USITC SE-05-014]

Sunshine Act Meeting

ACTION: Cancellation of Government in the Sunshine Meeting.

Agency Holding the Meeting: United States International Trade Commission.

Original Time and Date: April 13, 2005 at 11 a.m.

Place: Room 101, 500 E Street SW., Washington, DC 20436, Telephone: (202) 205-2000.

In accordance with 19 CFR 201.35(d)(1), the Commission has determined to cancel the Government in the Sunshine meeting which was scheduled for April 13, 2005. The Commission will reschedule this meeting at a future date. Earlier announcement of this cancellation was not possible.

Issued: April 5, 2005.
By order of the Commission.
Marilyn R. Abbott,
Secretary to the Commission.

[FR Doc. 05-7168 Filed 4-6-05; 11:36 am]

BILLING CODE 7020-02-P